DEPARTMENT OF COMMERCE

International Trade Administration

[A-570-884]

Notice of Amended Antidumping Duty Order: Certain Color Television Receivers from the People's Republic of China

AGENCY: Import Administration, International Trade Administration, Department of Commerce.

EFFECTIVE DATE: June 25, 2004.

FOR FURTHER INFORMATION CONTACT: Irina Itkin or Elizabeth Eastwood, Office of AD/CVD Enforcement, Office 2, Import Administration, International Trade Administration, U.S. Department of Commerce, 14th Street and Constitution Avenue, NW, Washington, DC 20230; telephone (202) 482-0656 or (202) 482-3874, respectively.

SUPPLEMENTARY INFORMATION:

Amended Antidumping Duty Order

On May 27, 2004, the International Trade Commission (the ITC) notified the Department of Commerce (the Department) of its final determination pursuant to section 735(b)(1)(A)(i) of the Tariff Act of 1930, as amended (the Act), that the industry in the United States producing certain color television receivers (CTVs) is materially injured by reason of less-than-fair-value imports of subject merchandise from the People's Republic of China (PRC). On June 3, 2004, in accordance with section 736(a) of the Act, the Department published the antidumping duty order on CTVs from the PRC. See Antidumping Duty Order: Certain Color Television Receivers From the People's Republic of China, 69 FR 31347 (June 3, 2004). However, the antidumping duty order contained ministerial errors in the scope section. Specifically, the scope inadvertently included the following: 1) the sentence 'Incomplete' CTVs are defined as unassembled CTVs with a color picture tube (i.e., cathode ray tube), printed circuit board or ceramic substrate, together with the requisite parts to comprise a complete CTV, when assembled,” and 2) a sentence fragment at the end of the scope section, which reads “and parts or imports of assemblages of parts that comprise less than a complete CTV.” As noted in the final determination, the Department has made no changes to the scope of this investigation in the course of this proceeding. See Notice of Final Determination of Sales at Less Than Fair Value and Negative Final Determination of Critical Circumstances: Certain Color Television Receivers From the People's Republic of China, 69 FR 20594 (Apr. 16, 2004). The additional sentence and the sentence fragment were inadvertent typographical errors which constitute ministerial errors in accordance with 19 CFR 351.224(f). Consequently, this amended order is being published to correct the scope of the order.

Scope of Order

For purposes of this order, the term “certain color television receivers” includes complete and incomplete direct-view or projection-type cathode-ray tube color television receivers, with a video display diagonal exceeding 52 centimeters, whether or not combined with video recording or reproducing apparatus, which are capable of receiving a broadcast television signal and producing a video image. Specifically excluded from this order are computer monitors or other video display devices that are not capable of receiving a broadcast television signal.

The color television receivers subject to this order are currently classifiable under subheadings 8528.12.2800, 8528.12.3250, 8528.12.3290, 8528.12.4000, 8528.12.5600, 8528.12.3600, 8528.12.4400, 8528.12.4800, and 8528.12.5200 of the Harmonized Tariff Schedule of the United States (HTSUS). Although the HTSUS subheading is provided for convenience and customs purposes, the written description of the scope of the order is dispositive.

In accordance with section 736(a)(2) of the Act, the Department will instruct U.S. Customs and Border Protection to assess, upon further advice by the Department, antidumping duties equal to the amount by which the normal value of the merchandise exceeds the U.S. price of the merchandise for all relevant entries of CTVs from the PRC, pursuant to the amended scope language, as discussed above.

This amended order is published in accordance with section 736(a) of the Act and 19 CFR 351.211.

Dated: June 21, 2004.
James J. Jochum,
Assistant Secretary for Import Administration.

[FR Doc. 04-14492 Filed 6-24-04; 8:45 am]

BILLING CODE 3510-DS-S